DEPARTMENT OF DEFENSE

Department of the Navy

Notice of Public Hearing for the Draft Supplemental Environmental Impact Statement for Renewal of Authorization To Use Pinecastle Range, Ocala National Forest, FL

AGENCY: Department of the Navy, DoD.

ACTION: Notice.

SUMMARY: Pursuant to Section 102(2)(C) of the National Environmental Policy Act of 1969, as implemented by the Council on Environmental Quality Regulations (40 Code of Federal Regulations [CFR] Parts 1500-1508), the U.S. Department of the Navy (Navy) has prepared and filed with the U.S. Environmental Protection Agency a Draft Supplemental Environmental Impact Statement (Draft SEIS) to evaluate potential environmental effects of significant new circumstances and information not available at the time the Final Environmental Impact Statement for Renewal of Authorization to Use Pinecastle Range, Ocala National Forest, Florida, (January 2002) (2002 FEIS) was completed.

The Navy will conduct three public hearings to provide information and receive oral and written comments on the Draft SEIS. Federal, State, and local agencies and interested individuals are invited to be present or represented at the public hearings. Navy representatives will be available to clarify information related to the Draft SEIS. This notice announces the date and location of the public hearings for this Draft SEIS.

DATES AND ADDRESSES: Open information sessions will precede scheduled public hearings and will allow individuals to review data presented in the Draft SEIS. Navy representatives will be available during the information sessions to clarify information related to the Draft SEIS. The open information sessions are scheduled from 6 p.m. to 7:30 p.m., followed by the public hearing from 7:30 p.m. to 9 p.m.

Public hearings will be held on the following dates and at the following locations in Florida:

1. September 22, 2009, at the Umatilla Community Building, 1 South Central Avenue, Umatilla, Florida;

2. September 23, 2009, at the Eustis Community Center, 601 Northshore Drive, Eustis, Florida;

3. September 24, 2009, at the Ocala American Legion Building, 516 NE Sanchez Avenue, Ocala, Florida.

FOR FURTHER INFORMATION CONTACT: Naval Facilities Engineering Command Southeast (NAVFAC Southeast) P.O. Box 30, Building 903, NAS Jacksonville, Jacksonville, Florida 32212-0030; Attn: SEIS Project Manager; Phone (904) 542-6301; Facsimile (904) 542-6345.

SUPPLEMENTARY INFORMATION: The SEIS supplements the Final Environmental Impact Statement for Renewal of Authorization to Use Pinecastle Range, Ocala National Forest, Florida, dated January 2002. The Record of Decision for the 2002 FEIS was dated March 29, 2002, and published in the Federal Register on April 10, 2002, (67 FR 17418). A Notice of Intent to prepare this Draft SEIS was published in the Federal Register on June 12, 2008. A public scoping period was conducted prior to the development of the Draft SEIS. During this period, comments were submitted via mail or electronically through the project Web site at http://www.pinecastleseis.com.

Pursuant to 40 CFR 1502.9, this Draft SEIS was prepared for the limited purpose of supplementing the 2002 FEIS to analyze new information regarding range safety zones and assess the effectiveness of existing mitigation measures to determine if any additional mitigation measures or a modification to the range Operating Plan were necessary. Following completion of the 2002 FEIS, the Navy adopted a new safety modeling program. This new modeling program, SAFE-RANGE, when applied to current training operations, indicates that range safety zones, are larger than previously modeled. Potential impacts associated with this new information are the focus of the Draft SEIS.

The Draft SEIS analyzes the potential environmental effects resulting from the revised range safety zones and the effectiveness of existing mitigation measures to determine if additional actions or modifications to the range Operating Plan are necessary to maintain public safety and ensure range sustainability. The Draft SEIS also evaluates past, present, and reasonably foreseeable future land use proposals and forestry actions from a cumulative impacts perspective. The Draft SEIS does not propose any changes to targets, method of delivery (air-to-ground), types or volumes of ordnance used at Pinecastle for military training and, therefore, were not re-analyzed in the Draft SEIS.

The Draft SEIS has been distributed to various federal, state, and local agencies, elected officials, and interested parties, and is available for public review at the Umatilla Public Library, 412 Hatfield Drive, Umatilla, Florida, 35784; and the Marion County Public Library, 2720 East Silver Springs Boulevard, Ocala, Florida, 34470. An electronic copy of the Draft SEIS is also available for public viewing at: http://www.pinecastleseis.com. Oral statements presented at the public hearing will be recorded by a stenographer; however, to ensure accuracy of the record, all statements should be submitted in writing. All statements, both oral and written, will become part of the public record on the Draft SEIS and will be responded to in the Final SEIS. Equal weight will be given to both oral and written statements.

In the interest of available time and to ensure that all who wish to give an oral statement have the opportunity to do so, each speaker's comments will be limited to three minutes. If a longer statement is to be presented, it should be summarized at the public hearing and the full text submitted in writing either at the hearing, or faxed or mailed to: Pinecastle SEIS, c/o Naval Facilities Engineering Command Southeast (NAVFAC Southeast); Attn: SEIS Project Manager; P.O. Box 30, Building 903, NAS Jacksonville, Jacksonville, Florida 32212-0030; Phone (904) 542-6301; Facsimile (904) 542-6345.

All written comments received or postmarked by October 19, 2009, will become part of the official public record and will be responded to in the Final SEIS.

Dated: August 27, 2009.
A.M. Vallandingham,
Lieutenant Commander, Office of the Judge Advocate General, U.S. Navy, Federal Register Liaison Officer.

[FR Doc. E9-21430 Filed 9-3-09; 8:45 am]

BILLING CODE 3810-FF-P